DEPARTMENT OF ENERGY

Federal Energy Regulatory Commission

[Docket No. CP18-524-000]

D'Lo Gas Storage, LLC; Notice of Intent to Prepare an Environmental Assessment for the Proposed D'Lo Natural Gas Storage Project Amendment, and Request for Comments on Environmental Issues

The staff of the Federal Energy Regulatory Commission (FERC or Commission) will prepare an environmental assessment (EA) that will discuss the environmental impacts of the D'Lo Natural Gas Storage Project Amendment involving construction and operation of facilities by D'Lo Gas Storage, LLC (DGS) in Simpson and Rankin Counties, Mississippi. The Commission will use this EA in its decision-making process to determine whether the project is in the public convenience and necessity.

This notice announces the opening of the scoping process the Commission will use to gather input from the public and interested agencies about issues regarding the project. The National Environmental Policy Act (NEPA) requires the Commission to take into account the environmental impacts that could result from its action whenever it considers the issuance of a Certificate of Public Convenience and Necessity. NEPA also requires the Commission to discover concerns the public may have about proposals. This process is referred to as scoping. The main goal of the scoping process is to focus the analysis in the EA on the important environmental issues. By this notice, the Commission requests public comments on the scope of the issues to address in the EA. To ensure that your comments are timely and properly recorded, please submit your comments so that the Commission receives them in Washington, DC on or before 5:00 p.m. Eastern Time on September 26, 2018.

You can make a difference by submitting your specific comments or concerns about the project. Your comments should focus on the potential environmental effects, reasonable alternatives, and measures to avoid or lessen environmental impacts. Your input will help the Commission staff determine what issues they need to evaluate in the EA. Commission staff will consider and address all filed comments during the preparation of the EA.

If you sent comments on this project to the Commission before the opening of this docket on July 13, 2018, you will need to file those comments in Docket No. CP18-524-000 to ensure they are considered as part of this proceeding.

This notice is being sent to the Commission's current environmental mailing list for this project. State and local government representatives should notify their constituents of this proposed project and encourage them to comment on their areas of concern.

If you are a landowner receiving this notice, a pipeline company representative may contact you about the acquisition of an easement to construct, operate, and maintain the proposed facilities. The company would seek to negotiate a mutually acceptable easement agreement. You are not required to enter into an agreement. However, if the Commission approves the project, that approval conveys with it the right of eminent domain. Therefore, if you and the company do not reach an easement agreement, the pipeline company could initiate condemnation proceedings in court. In such instances, compensation would be determined by a judge in accordance with state law.

DGS provided landowners with a fact sheet prepared by the FERC entitled An Interstate Natural Gas Facility On My Land? What Do I Need To Know? This fact sheet addresses a number of typically asked questions, including the use of eminent domain and how to participate in the Commission's proceedings. It is also available for viewing on the FERC website (www.ferc.gov).

Public Participation

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on “eRegister.” You will be asked to select the type of filing you are making; a comment on a particular project is considered a Comment on a Filing; or

(3) You can file a paper copy of your comments by mailing them to the following address. Be sure to reference the project docket number (CP18-524-000) with your submission:

Kimberly D. Bose, Secretary, Federal Energy Regulatory Commission, 888 First Street NE, Room 1A, Washington, DC 20426.

Summary of the Proposed Project

The FERC issued a Certificate for the original D'Lo Gas Storage Project on September 6, 2012 in Docket No. CP12-39-000. DGS proposes to amend the originally certificated project design, as described below. The D'Lo Gas Storage Project would provide about 1.2 billion cubic feet (Bcf) per day of withdrawal and 0.59 Bcf per day of injection capacity. According to DGS, its project would help meet the growing demand for firm and interruptible high deliverability natural gas storage services to support deliveries of natural gas to widely variable electric power generation loads, and to provide services to growing local distribution companies and other markets that require highly reliable natural gas service in Mississippi, and the Northeastern, mid-Atlantic, Southeastern, and Florida regions.

DGS is proposing the following amendments to the originally certificated project design:

• Elimination of the Gulf South Interconnect Lateral and Gulf South Meter Station facilities; and

• relocation of Primary Source Water Wells #2 and #4 and Primary Brine Disposal Wells #2 and #4 approximately 0.4 mile south of their originally proposed locations.

The revised scope of the total project includes:

• The solution mining of three salt dome caverns with a designed total working gas volume of 8.0 Bcf per cavern;

• a new solution mining facility site having injection and withdrawal capacity of 4,000-8,000 gallons per minute (gpm);

• a new compressor station with four 8,000 horsepower (hp) and one 4,735 hp Caterpillar gas engine driven compressors, totaling 36,735 hp;

• the drilling and completion of four primary and three secondary source water wells, each having a total production capability of 1,000 gpm;

• the drilling and completion of four primary and one secondary brine disposal wells, each having injection capability of 1,000 gpm;

• 4.0 miles of 20-inch-diameter source water pipelines;

• 4.0 miles of 20-inch-diameter brine disposal pipelines;

• 0.2 mile of 24-inch-diameter natural gas pipeline from the compressor and solution mining facility sites to Cavern Well #3;

• 0.4 mile of 30-inch-diameter natural gas pipeline with an interconnect and meter station to Boardwalk Pipeline Company;

• 0.8 mile of 24-inch-diameter natural gas pipeline with an interconnect and meter station to Southern Natural Gas Pipeline Company;

• 3.2 miles of 30-inch-diameter natural gas pipeline with an interconnect and meter station to Kinder Morgan Midcontinent Express Pipeline;

• a new 12-inch-diameter tap and interconnect and meter station to Southcross Energy; and

• the widening and improvement of 3.5 miles of existing access roads, and construction of 0.8 mile of new access roads for construction, operations, and maintenance of the proposed facilities.

The general location of the project facilities is shown in appendix 1.¹

¹ The appendices referenced in this notice will not appear in the Federal Register. Copies of appendices were sent to all those receiving this notice in the mail and are available at www.ferc.gov using the link called “eLibrary” or from the Commission's Public Reference Room, 888 First Street NE, Washington, DC 20426, or call (202) 502-8371. For instructions on connecting to eLibrary, refer to the last page of this notice.

Land Requirements for Construction

Construction of the proposed facilities would disturb about 160.3 acres of land for the aboveground facilities and pipelines. Following construction, DGS would maintain about 113.8 acres for permanent operation of the project's facilities; the remaining acreage would be restored and revert to former uses. The proposed changes presented above would reduce surface impacts from the original project by approximately 14.1 acres. DGS owns and/or controls all areas of the project that would be permanently impacted.

The EA Process

The EA will discuss impacts that could occur as a result of the construction and operation of the proposed project under these general headings:

• Geology and soils;

• land use;

• water resources, fisheries, and wetlands;

• cultural resources;

• vegetation and wildlife;

• air quality and noise;

• endangered and threatened species;

• public safety; and

• cumulative impacts

Commission staff will also evaluate reasonable alternatives to the proposed project or portions of the project, and make recommendations on how to lessen or avoid impacts on the various resource areas.

The EA will present Commission staffs' independent analysis of the issues. The EA will be available in the public record through eLibrary.² Commission staff will consider and address all comments on the EA before making recommendations to the Commission. To ensure Commission staff have the opportunity to address your comments, please carefully follow the instructions in the Public Participation section, beginning on page 2.

² For instructions on connecting to eLibrary, refer to the last page of this notice.

With this notice, the Commission is asking agencies with jurisdiction by law and/or special expertise with respect to the environmental issues of this project to formally cooperate in the preparation of the EA.³ Agencies that would like to request cooperating agency status should follow the instructions for filing comments provided under the Public Participation section of this notice.

³ The Council on Environmental Quality regulations addressing cooperating agency responsibilities are at Title 40, Code of Federal Regulations, Part 1501.6.

Consultation Under Section 106 of the National Historic Preservation Act

In accordance with the Advisory Council on Historic Preservation's implementing regulations for section 106 of the National Historic Preservation Act, the Commission is are using this notice to initiate consultation with the applicable State Historic Preservation Office (SHPO), and to solicit their views and those of other government agencies, interested Indian tribes, and the public on the project's potential effects on historic properties.⁴ Commission staff will define the project-specific Area of Potential Effects (APE) in consultation with the SHPO as the project develops. On natural gas facility projects, the APE at a minimum encompasses all areas subject to ground disturbance (examples include construction right-of-way, contractor/pipe storage yards, compressor stations, and access roads). The EA for this project will document findings on the impacts on historic properties and summarize the status of consultations under section 106.

⁴ The Advisory Council on Historic Preservation's regulations are at Title 36, Code of Federal Regulations, Part 800. Those regulations define historic properties as any prehistoric or historic district, site, building, structure, or object included in or eligible for inclusion in the National Register of Historic Places.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. Commission staff will update the environmental mailing list as the analysis proceeds to ensure that information related to this environmental review is sent to all individuals, organizations, and government entities interested in and/or potentially affected by the proposed project.

As stated above, the EA will be available in the public record through the Commission's eLibrary, under the Docket Number CP18-524-000.

Additional Information

Additional information about the project is available from the Commission's Office of External Affairs, at (866) 208-FERC, or on the FERC website at www.ferc.gov using the eLibrary link. Click on the eLibrary link, click on General Search and enter the docket number in the Docket Number field, excluding the last three digits (i.e., CP18-524). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public sessions or site visits will be posted on the Commission's calendar located at www.ferc.gov/EventCalendar/EventsList.aspx along with other related information.

Dated: August 27, 2018.
Kimberly D. Bose,
Secretary.

[FR Doc. 2018-18914 Filed 8-30-18; 8:45 am]

BILLING CODE 6717-01-P